DEPARTMENT OF DEFENSE

Office of the Secretary

Defense Science Board

AGENCY: Department of Defense.

ACTION: Notice of advisory committee meeting.

SUMMARY: The Defense Science Board Task Force on Integrated Fire Support in the Battlespace will meet in closed session on June 4-5, 2003; July 9-10, 2003; September 10-11, 2003; October 8-9, 2003; November 5-6, 2003; and December 10-11, 2003, at locations to be determined. The Task Force will apply the methodology developed in the 2001 Precision Targeting Summer Study to broadly develop the system of systems required to provide truly integrated fire support.

The mission of the Defense Science Board is to advise the Secretary of Defense and the Under Secretary of Defense for Acquisition, Technology & Logistics on scientific and technical matters as they affect the perceived needs of the Department of Defense. At these meetings, the Defense Science Board Task Force will assess: the adequacy of current and proposed munitions with respect to speed, accuracy, lethality, cost, etc., to meet the spectrum of threats; Intelligence Surveillance and Reconnaissance (ISR) techniques and mechanisms to meet the needs of tactical and operational battlefield forces; the adequacy of battlefield command and control and integration techniques for tactical, operational, and strategic forces operating on the battlefield; the current impediments to a fully integrated Air, Land and Sea fire support; and the need for predictive engagement tools and derived intelligence products to guide the battlefield commander in use of forces to shape the outcome to the desired effect.

In accordance with section 10(d) of the Federal Advisory Committee Act, Pub. L. 92-463, as amended (5 U.S.C. App. II), it has been determined that these Defense Science Board Task Force meetings concern matters listed in 5 U.S.C. 552b(c)(1) and that, accordingly, the meetings will be closed to the public.

Dated: April 17, 2003.
Patricia L. Toppings,
Alternate OSD Federal Register Liaison Officer, Department of Defense.

[FR Doc. 03-10088 Filed 4-23-03; 8:45 am]

BILLING CODE 5001-08-M